DEPARTMENT OF HOMELAND SECURITY

Coast Guard

33 CFR Part 117

[Docket No. USCG-2013-0122]

Drawbridge Operation Regulations; Columbia River, Vancouver, WA

AGENCY: Coast Guard, DHS.

ACTION: Notice of deviation from drawbridge regulation.

SUMMARY: The Coast Guard has issued a temporary deviation from the operating schedule that governs the Burlington Northern Santa Fe (BNSF) Railway Bridge across the Columbia River, mile 105.6, at Vancouver, WA. This deviation is necessary to accommodate maintenance to replace movable bridge joints. This deviation allows the bridge to remain in the closed position during maintenance activities.

DATES: This deviation is effective from 8 a.m. on March 13, 2013, until 6 p.m. on March 14, 2013.

ADDRESSES: The docket for this deviation, [USCG-2013-0122] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: BNSF has requested that the BNSF Swing Bridge across the Columbia River, mile 105.6, remain closed to vessel traffic to facilitate replacement of movable bridge joints. During these maintenance periods the swing span of the BNSF Railway Bridge across the Columbia River at Vancouver, WA will be disabled and the bridge will not be able to be opened. The BNSF Bridge crosses the Columbia River, mile 105.6, and in accordance to NOAA Chart 18526 provides 39 feet of vertical clearance above Columbia River Datum 0.0 while in the closed position. Vessels which do not require a bridge opening may continue to transit beneath the bridge during this closure period. Under normal operation the bridge opens on signal as required by 33 CFR 117.5. This deviation allows the swing span of the BNSF Railway Bridge across the Columbia River, mile 105.6, to remain in the closed position and not open for maritime traffic from 8 a.m. until 6 p.m. on March 13, 2013, and 8 a.m. until 6 p.m. on March 14, 2013. The bridge shall operate in accordance to 33 CFR 117.5 at all other times. Waterway usage on this stretch of the Columbia River includes vessels ranging from commercial tug and tow vessels to recreational pleasure craft including cabin cruisers and sailing vessels. Mariners will be notified and kept informed of the bridge's operational status via the Coast Guard Notice to Mariners publication and Broadcast Notice to Mariners as appropriate.

In accordance with 33 CFR 117.35(e), the drawbridge must return to its regular operating schedule immediately at the end of the effective period of this temporary deviation. This deviation from the operating regulations is authorized under 33 CFR 117.35.

Dated: February 27, 2013.
Randall D. Overton,
Bridge Administrator.

[FR Doc. 2013-05545 Filed 3-8-13; 8:45 am]

BILLING CODE 9110-04-P